DEPARTMENT OF VETERANS AFFAIRS

[OMB Control No. 2900-0568]

Agency Information Collection Activity Under OMB Review: Submission of School Catalog to the State Approving Agency

AGENCY: Veterans Benefits Administration, Department of Veterans Affairs.

ACTION: Notice.

SUMMARY: In compliance with the Paperwork Reduction Act (PRA) of 1995, this notice announces that the Veterans Benefits Administration (VBA), Department of Veterans Affairs, will submit the collection of information abstracted below to the Office of Management and Budget (OMB) for review and comment. The PRA submission describes the nature of the information collection and its expected cost and burden, and it includes the actual data collection instrument.

DATES: Written comments and recommendations for the proposed information collection should be sent within 30 days of publication of this notice by clicking on the following link www.reginfo.gov/public/do/PRAMain, select “Currently under Review—Open for Public Comments”, then search the list for the information collection by Title or OMB Control No. 2900-0568.

FOR FURTHER INFORMATION CONTACT: Maribel Aponte, Office of Enterprise and Integration, Data Governance Analytics (008), 810 Vermont Ave. NW, Washington, DC 20420, (202) 266-4688 or email maribel.aponte@va.gov. Please refer to “OMB Control No. 2900-0568” in any correspondence.

SUPPLEMENTARY INFORMATION:

Authority: Title 38 U.S.C. 3675; 3676; 38 CFR 21.4253 and 21.4254.

Title: Submission of School Catalog to the State Approving Agency.

OMB Control Number: 2900-0568.

Type of Review: Revision of a currently approved collection.

Abstract: State Approving Agencies and VA use the catalogs to determine what courses can be approved for VA training. VA receives catalogs when institutions change their education programs, tuition and fees and calendars, etc. In general, the catalogs are collected twice a year. Without the catalogs, VA and SAAs cannot determine what courses could be approved. There was a decrease in burden during this renewal period because, unlike for the previous submission, we now take the annual average number of catalogs received during periods 2019, 2020 and 2021, rather than the actual grand total of the number of catalogs received for those periods.

An agency may not conduct or sponsor, and a person is not required to respond to a collection of information unless it displays a currently valid OMB control number. The Federal Register Notice with a 60-day comment period soliciting comments on this collection of information was published at 87 FR 247 on December 27, 2022, page 79449.

Affected Public: Individuals and Households.

Estimated Annual Burden: 891 hours.

Estimated Average Burden Time per Respondent: 15 minutes.

Frequency of Response: Twice Annually.

Estimated Number of Respondents: 3,567.

By direction of the Secretary.
Maribel Aponte,
VA PRA Clearance Officer, Office of Enterprise and Integration, Data Governance Analytics, Department of Veterans Affairs.

[FR Doc. 2023-04818 Filed 3-8-23; 8:45 am]

BILLING CODE 8320-01-P